SMALL BUSINESS ADMINISTRATION

Data Collection Available for Public Comments

ACTION: 60-Day notice and request for comments.

SUMMARY: The Small Business Administration (SBA) intends to request approval from the Office of Management and Budget (OMB) for the collection of information described below. The Paperwork Reduction Act (PRA) requires agencies to publish a notice in the Federal Register concerning each proposed collection of information before submission to OMB, and to allow 60 days for public comment in response to the notice. This notice complies with that requirement.

DATES: Submit comments on or before June 6, 2022.

ADDRESSES: Send all comments to Lori Gillen, HUBZone Program, Small Business Administration, Washington, DC 20416.

FOR FURTHER INFORMATION CONTACT: Lori Gillen, HUBZone Program Director lori.gillen@sba.gov or Curtis B. Rich Agency Clearance Officer 202-205-7030 curtis.rich@sba.gov.

SUPPLEMENTARY INFORMATION: The collected information is submitted by small business concerns seeking certification as a certified HUBZone small business. SBA uses the information to verify a concern's eligibility for the HUBZone programs, to comply a database of qualified small business concerns, as well as for the re-certification and examination of certified HUBZone small business concerns. Finally, SBA uses the information to prepare reports for the Executive and legislative branches.

OMB Control Number 3245-0320

Title: “HUBZone Program Electronic Application, Recertification, and Program Examination.”

Description of Respondents: Small business concerns seeking certification as a certified HUBZone small business concern.

Form Number: N/A.

Annual Responses: 3,621.

Annual Burden: 11,425.5.

Curtis Rich,
Management Analyst.

[FR Doc. 2022-07371 Filed 4-6-22; 8:45 am]

BILLING CODE 8026-03-P